DEPARTMENT OF ENERGY

Federal Energy Regulatory Commission

Combined Notice of Filings #2

Take notice that the Commission received the following electric corporate filings:

Docket Numbers: EC13-117-000.

Applicants: Novo BioPower LLC.

Description: Section 203 Application of Novo BioPower LLC under EC13-117.

Filed Date: 6/11/13.

Accession Number: 20130611-5149.

Comments Due: 5 p.m. ET 7/2/13.

Take notice that the Commission received the following electric rate filings:

Docket Numbers: ER10-2984-011.

Applicants: Merrill Lynch Commodities, Inc.

Description: Updated Market Power Analysis for the Southwest Region of Merrill Lynch Commodities, Inc.

Filed Date: 6/12/13.

Accession Number: 20130612-5073.

Comments Due: 5 p.m. ET 8/12/13.

Docket Numbers: ER13-1671-000.

Applicants: Chevron Coalinga Energy Company.

Description: Notice of Cancellation to be effective 6/30/2013.

Filed Date: 6/12/13.

Accession Number: 20130612-5000.

Comments Due: 5 p.m. ET 7/3/13.

Docket Numbers: ER13-1672-000.

Applicants: PJM Interconnection, L.L.C.

Description: Original Service Agreement No. 3574; Queue No. Y1-034 to be effective 5/14/2013.

Filed Date: 6/12/13.

Accession Number: 20130612-5053.

Comments Due: 5 p.m. ET 7/3/13.

Docket Numbers: ER13-1673-000.

Applicants: Entergy Arkansas, Inc.

Description: MSS-3 Compliance Filing to be effective 5/13/2013.

Filed Date: 6/12/13.

Accession Number: 20130612-5063.

Comments Due: 5 p.m. ET 7/3/13.

Docket Numbers: ER13-1674-000.

Applicants: Entergy Gulf States Louisiana, L.L.C.

Description: MSS-3 Compliance Filing to be effective 5/13/2013.

Filed Date: 6/12/13.

Accession Number: 20130612-5066.

Comments Due: 5 p.m. ET 7/3/13.

Docket Numbers: ER13-1675-000.

Applicants: Entergy Louisiana, LLC.

Description: MSS-3 Compliance Filing to be effective 5/13/2013.

Filed Date: 6/12/13.

Accession Number: 20130612-5068.

Comments Due: 5 p.m. ET 7/3/13.

Docket Numbers: ER13-1676-000.

Applicants: Entergy Mississippi, Inc.

Description: MSS-3 Compliance Filing to be effective 5/13/2013.

Filed Date: 6/12/13.

Accession Number: 20130612-5069.

Comments Due: 5 p.m. ET 7/3/13.

Docket Numbers: ER13-1677-000.

Applicants: Entergy New Orleans, Inc.

Description: MSS-3 Compliance Filing to be effective 5/13/2013.

Filed Date: 6/12/13.

Accession Number: 20130612-5070.

Comments Due: 5 p.m. ET 7/3/13.

Docket Numbers: ER13-1678-000.

Applicants: Entergy Texas, Inc.

Description: MSS-3 Compliance Filing to be effective 5/13/2013.

Filed Date: 6/12/13.

Accession Number: 20130612-5071.

Comments Due: 5 p.m. ET 7/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2013.
Nathaniel J. Davis, Sr.,
Deputy Secretary.

[FR Doc. 2013-14576 Filed 6-18-13; 8:45 am]

BILLING CODE 6717-01-P